DEPARTMENT OF COMMERCE

International Trade Administration

[A-570-892]

Carbazole Violet Pigment 23 from the People's Republic of China: Notice of Amended Final Determination in Accordance With Court Decision

AGENCY: Import Administration, International Trade Administration, Department of Commerce.

EFFECTIVE DATE: March 30, 2007.

SUMMARY: On December 8, 2006, the United States Court of International Trade (“CIT”) sustained the final remand determination made by the Department of Commerce (“the Department”) pursuant to the CIT's remand of the final determination of the less-than-fair-value investigation of Carbazole Violet Pigment 23 (“CVP 23”) from the People's Republic of China. See Goldlink Industries Co., Ltd., Trust Chem Co., Ltd., Tianjin Hanchem International Trading Co., Ltd. v. United States, and Nation Ford Chemical Company and Sun Chemical Corporation, and Clariant Corporation, Consol. Ct. 05-00060 (CIT Dec. 8, 2006). As there is now a final and conclusive court decision in this case, the Department is amending the final determination of this investigation.

FOR FURTHER INFORMATION CONTACT: Charles Riggle at (202) 482-0650, AD/CVD Operations, Office 8, Import Administration, International Trade Administration, U.S. Department of Commerce, 14th Street and Constitution Avenue, NW, Washington, DC 20230.

SUPPLEMENTARY INFORMATION: On November 17, 2004, the Department published in the Federal Register its final determination in the above-referenced investigation covering the period of April 1, 2003, through September 30, 2003. See Notice of Final Determination of Sales at Less Than Fair Value: Carbazole Violet Pigment 23 from the People's Republic of China, 69 FR 67304 (November 17, 2004) (“Final Determination”). In the Final Determination, the Department (1) Applied total adverse facts available (“AFA”) to Tianjin Hanchem International Trading Co., Ltd. (“Hanchem”); (2) determined that the subsidies received by Pidilite Industries, Ltd. (“Pidilite”), an Indian producer of CVP 23, did not distort Pidilite's financial ratios; (3) valued benzene sulfonyl chloride using HTS number 2904.10.10; (4) valued calcium chloride based on 70-percent chemical concentration; (5) declined to value steam because the only steam values on the record were based on U.S. price quotes; and (6) did not include terminal charges and brokerage fees in movement costs. In Goldlink Industries Co., Ltd., Trust Chem Co., Ltd., Tianjin Hanchem International Trading Co., Ltd. v. United States, 431 F. Supp. 2d 1323 (CIT May 4, 2006), the CIT remanded the underlying Final Determination to the Department: to (1) re-examine its determination to apply total AFA to Hanchem; (2) further explain its determination that the subsidies Pidilite received did not distort Pidilite's financial ratios; (3) re-examine the surrogate values for benzene sulfonyl chloride, calcium chloride and steam; (4) either include terminal charges and brokerage fees in movement costs, or precisely and reasonably explain its decision not to include such costs; and (5) re-open the record and allow parties to submit new information as necessary.

On October 16, 2006, the Department issued to the CIT its final results of redetermination pursuant to remand. In the remand redetermination the Department: (1) Applied partial AFA to Hanchem; (2) explained how the subsidies Pidilite received did not distort Pidilite's financial ratios; (3) re-calculated the surrogate values for benzene sulfonyl chloride, calcium chloride and steam; (4) explained why it is not appropriate to include terminal charges and brokerage fees in movement costs; and (5) calculated a surrogate value for steam. Thus, the Department recalculated the antidumping duty rates applicable to Goldlink Industries Co., Ltd., Trust Chem Co., Ltd., Hanchem, Nantong Haidi Chemicals Co., Ltd., and the PRC-wide entity. On December 8, 2006, the CIT sustained the Department's final redetermination. See Goldlink Industries Co., Ltd., Trust Chem Co., Ltd., Tianjin Hanchem International Trading Co., Ltd. v. United States, and Nation Ford Chemical Company and Sun Chemical Corporation, and Clariant Corporation, Ct. No. 05-00060, Slip Op. 06-65 (CIT December 8, 2006).

Consistent with the decision of the United States Court of Appeals for the Federal Circuit in Timken Company v. United States and China National Machinery and Equipment Import and Export Corporation, 893 F.2d 337 (Fed. Cir. 1990), on January 4, 2007, the Department published a notice announcing that the CIT's final judgement was not in harmony with the Department's Final Determination. No party appealed the CIT's decision. Therefore, there is now a final and conclusive court decision in this case.

Amended Final Determination

As the litigation in this case has concluded, the Department is amending the Final Determination. The revised dumping margins are as follows:

Exporter/Manufacturer | Margin (percent)
Goldlink Industries Co., Ltd. | 12.46
Trust Chem Co., Ltd. | 39.29
Tianjin Hanchem International Trading Co., Ltd. | 85.41
Nantong Haidi Chemicals Co., Ltd. | 57.07
PRC-Wide Rate | 241.32

This notice is issued and published in accordance with sections 751(a)(1) and 777(i)(1) of the Tariff Act of 1930, as amended.

Dated: March 22, 2007.
David M. Spooner,
Assistant Secretary for Import Administration.

[FR Doc. E7-5859 Filed 3-29-07; 8:45 am]

BILLING CODE 3510-DS-S